NATIONAL FOUNDATION ON THE ARTS AND THE HUMANITIES

Institute of Museum and Library Services

Sunshine Act Meeting of the National Museum and Library Services Board

AGENCY: Institute of Museum and Library Services (IMLS), NFAH.

ACTION: Notice of meeting.

SUMMARY: The National Museum and Library Services Board, which advises the Director of the Institute of Museum and Library Services on general policies with respect to the duties, powers, and authority of the Institute relating to museum, library and information services, will meet on November 18, 2015.

DATES: Wednesday, November 18, 2015, from 8:30 a.m. to 2:30 p.m. CST.

ADDRESSES: The meeting will be held at the Sheraton New Orleans, Endymion/Mid-City Rooms, 8th Floor, 500 Canal Street, New Orleans, LA 70130.

Status: Part of this meeting will be open to the public. The rest of the meeting will be closed pursuant to subsections (c)(4) and (c)(9) of section 552b of Title 5, United States Code because the Board will consider information that may disclose: Trade secrets and commercial or financial information obtained from a person and privileged or confidential; and information the premature disclosure of which would be likely to significantly frustrate implementation of a proposed agency action.

Agenda: Thirty-Second Meeting of the National Museum and Library Services Board Meeting:

Executive Session—8:30 a.m.-9:15 a.m.

(Closed to the Public)

Morning Session—9:15 a.m.-11:10 a.m.

I. Welcome

II. Director's Report

III. Financial Update

IV. Office of Communications and Government Affairs Update

Break

V. Office of Museum Services Update

VI. Office of Library Services Update

(Open to the Public)

Afternoon Session—12:30 p.m.-2:30 p.m.

VII. Board Program

(Open to the Public)

FOR FURTHER INFORMATION CONTACT: Katherine Maas, Program Specialist, Institute of Museum and Library Services, 1800 M Street NW., 9th Floor, Washington, DC 20036. Telephone: (202) 653-4676. Please provide advance notice of any special needs or accommodations.

Dated: November 5, 2015.
Andrew Christopher,
Associate General Counsel.

[FR Doc. 2015-28619 Filed 11-5-15; 4:15 pm]

BILLING CODE 7036-01-P